FEDERAL ACCOUNTING STANDARDS ADVISORY BOARD

Notice of Issuance of SFFAS 59, Accounting and Reporting of Government Land

AGENCY: Federal Accounting Standards Advisory Board.

ACTION: Notice.

SUMMARY: Notice is hereby given that the Federal Accounting Standards Advisory Board (FASAB) has issued Statement of Federal Financial Accounting Standards (SFFAS) 59, Accounting and Reporting of Government Land.

ADDRESSES: The issuance is available on the FASAB website at https://fasab.gov/accounting-standards/. Copies can be obtained by contacting FASAB at (202) 512-7350.

FOR FURTHER INFORMATION CONTACT: Ms. Monica R. Valentine, Executive Director, 441 G Street NW, Suite 1155, Washington, DC 20548, or call (202) 512-7350.

Authority: 31 U.S.C. 3511(d), the Federal Advisory Committee Act, as amended (5 U.S.C. app.), and the FASAB Rules of Procedure, as amended in October 2010.

Dated: August 9, 2021.
Monica R. Valentine,
Executive Director.

[FR Doc. 2021-17798 Filed 8-18-21; 8:45 am]

BILLING CODE P